DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Initial Patent Applications.

Form Number(s): PTO/SB/01, 01A, 02, 02A, 02B, 02CN, 02DE, 02ES, 02FR, 02IT, 02JP, 02KR, 02LR, 02NL, 02RU, 02SE, 03, 03A, 04, 06, 07, 14 EFS-Web, 16, 16 EFS-Web, 17, 29, 29A, and 101-110. This collection also includes the following AIA forms: PTO/AIA01 through AIA04, AIA08 through AIA11, AIA14 and 15, AIA18 and 19, and AIA01CN and 01DE, 01ES, 01FR, 01IT, 01JP, 01KR, 01NL, 01RU, 01SE, 02CN, 02DE, 02ES, 02FR, 02IT, 02JP, 02KR, 02NL, 02RU, and 02SE.

Agency Approval Number: 0651-0032.

Type of Request: Revision of a currently approved collection.

Burden: 15,076,442 hours annually.

Number of Respondents: 597,047 responses per year. The USPTO estimates that approximately 157,950 of these responses will be from small entities (this estimate reflects a 25% small entity response rate for all items in the collection except for design-related items in the collection, for which a 50% small entity response rate is estimated). The USPTO estimates that 577,624 responses will be filed electronically.

Avg. Hours per Response: The USPTO estimates that it will take the public approximately 30 minutes (0.50 hours) to 40 hours to complete the applications, petitions, and additional papers in this collection, depending on the complexity of the request. This includes the time to gather the necessary information, prepare the application, petition, or other papers, and submit the completed request to the USPTO. The USPTO assumes that, on balance it takes the same amount of time to gather the necessary information, prepare the application, petition, or other papers, and submit the completed request to the USPTO, whether the applicant submits it in paper form or electronically.

Needs and Uses: This collection of information is required by 35 U.S.C. 131 and 37 CFR 1.16 through 1.84 and 1.495(b). Each patent applicant must provide sufficient information to allow the USPTO to properly examine the application, petition, or paper to determine whether the application, petition, or paper meets the criteria set forth in the patent statutes and regulations. The various fee and application transmittal forms, the declarations, the cover sheets, the petitions, and the papers filed under 37 CFR 1.41, 1.48, and 1.53(c)(2) permit applicants to supply all of the information necessary to process the application and enables the USPTO to ensure that all of the information has been provided in order to process the application.

Affected Public: Individuals or households; businesses or other for-profits; non-profit institutions; and the Federal Government.

Frequency: On occasion.

Respondent's Obligation: Required to obtain or retain benefits.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0032 copy request” in the subject line of the message.

• Mail: Susan K. Fawcett, Records Officer, Office of the Chief Information Officer, United States Patent and Trademark Office, P.O. Box 1450, Alexandria, VA 22313-1450.

Written comments and recommendations for the proposed information collection should be sent on or before March 3, 2014 to Nicholas A. Fraser, OMB Desk Officer, via email to Nicholas_A._Fraser@omb.eop.gov, or by fax to 202-395-5167, marked to the attention of Nicholas A. Fraser.

Dated: January 24, 2014.
Susan K. Fawcett,
Records Officer, USPTO, Office of the Chief Information Officer.

[FR Doc. 2014-01777 Filed 1-29-14; 8:45 am]

BILLING CODE 3510-16-P